DEPARTMENT OF HEALTH AND HUMAN SERVICES

Administration for Children and Families

[ACF/ACYF/CB-2002-03]

Grants to the National Indian Child Welfare Association and the National Association of Counsel for Children

AGENCY: Administration on Children, Youth and Families (ACYF), ACF, DHHS.

ACTION: Notice of awards.

SUMMARY: Notice is hereby given that ACYF will award grant funds without competition to the National Indian Child Welfare Association (NICWA) and the National Association of Counsel for Children (NACC). These grants are being awarded to unsolicited proposals that conform to the applicable program objectives, are within the legislative authorities, and propose activities that may be lawfully supported through grant mechanisms. Both applications are of outstanding and unique merit. Each activity presents an opportunity to produce meaningful, sustainable, and useful results in an area of significant interest to ACF.

The NICWA project will support a three year pilot project to collect data analogous to that collected by the National Child Abuse and Neglect Data System (NCANDS) in three Native American areas. Currently, there is no reliable information on the extent and nature of child abuse and neglect (CAN) in American Indian/Alaska Native Communities. Most American Indian tribes and Alaska Native corporations or villages, as sovereign nations, provide their own child protection services, and data from them are not part of any national CAN data collection. NICWA proposes a demonstration pilot project to design and test a data collection system with six American Indian tribes and/or Alaska Native corporations and/or villages with effective recordkeeping systems. These entities will report CAN events to NICWANet, an interactive and accessible web-based network developed by NICWA (through a Technology Opportunities Program grant). NICWA will work with the National Child Abuse and Neglect Data System (NCANDS) contractor support team to assure that the data collected by NICWANet is compatible and could be submitted to NCANDS by the collecting entity.

NICWA also proposes to involve other stakeholders, such as the Bureau of Indian Affairs (BIA and the Indian Health Service (IHS), throughout the project to promote maximum utilization of the data. The goal of the pilot demonstration is to develop a model of a national tribal CAN reporting system. Participating tribes will receive stipends, hardware, software and technical assistance to develop competence and capacity for sustaining the data collection activity.

The NACC project will develop a pilot a certification program for attorneys who represent public child welfare clients or represent children in family or dependency courts. The NACC and the University of Michigan Law School proposed creating a national certification program for child welfare (CW) lawyers. Children in the CW system need competent representation for legal process to function smoothly and ensure their safety and permanence. Data show that children often are not well served in court, due in part to the lack of knowledgeable and well-trained attorneys with expertise in representing the child, the parent and the child welfare agency; and anecdotally, belief in the need for improved legal practice for children is widespread. To correct this problem, NACC proposed a system that measures competence and then certifies competent representatives to the courts and other potential employers. Child welfare law has become increasingly complex and specialized, as Federal legislation, such as the Adoption and Safe Families Act of 1997 and State laws have made child protection and foster care cases even more legally complicated. Lawyers, to be good advocates for children and effective in the courtroom, must understand the social and psychological implications of a case and what those mean developmentally for the child.

The American Bar Association (ABA) and the State Justice Institute (SJI) have recommended certification as a means of improving the quality of legal services for children. Certification will establish standards of professional competence (be competency based), provide a measure of effectiveness of lawyer training programs and improve the quality and efficiency of CW court cases through a process that is non-governmental, professionally driven and supported, and creates incentives for excellence. NACC has prepared its application to the ABA Standing Committee on Specialization to approve the certification program, as the ABA has approved certification programs in other specialties such as Bankruptcy, Trial Practice, Estate Planning, and Elder Law. This specialty would be “Juvenile Law—Child Welfare.”

NACC proposes to identify and define lawyer competencies (i.e., knowledge and skills), present the competencies in a manual, guide the development of training programs, and pilot a certifying examination. Evaluation and revision will be an integral part of the iterative process. NACC has submitted documentation of support for the American Academy of Adoption Attorneys, the ABA Center on Children and the Law, the SBA Standing Committee on Specialization, the National Council of Juvenile and Family Court Judges, and the National Institute of Trial Advocacy. Colorado, Michigan and New Mexico have offered to serve as pilot certification states. The program has every likelihood of being self-sustaining following development.

The project periods for both awards will be for 36 months, beginning September 30, 2002 and ending September 29, 2005. Each grantee will be awarded $200,000 for use during the first twelve months of the project period. The grantees may in the second and third years of the project periods be awarded additional noncompetitive continuation funding of up to $200,000 per year, each year, depending on the availability of funds, satisfactory performance by the grantee, and a determination that such continued funding would be in the best interest of the government.

Authority: These awards will be made pursuant to the Child Abuse Prevention and Treatment Act, 42 U.S.C. 5106 (CFDA 93.670) and the Promoting Safe and Stable Families program: Section 430 of title IV-B, Subpart 2, of the Social Security Act, as amended, 42 U.S.C. 629 (CFDA 93.556).

FOR FURTHER INFORMATION CONTACT: Sally Flanzer, Children's Bureau, Administration on Children, Youth and Families, 330 C Street, SW., Room 2429, Washington, DC 20447; Telephone: (202) 205-8914.

Dated: September 23, 2002.
Joan E. Ohl,
Commissioner, Administration on Children, Youth and Families.

[FR Doc. 02-24657 Filed 9-26-02; 8:45 am]

BILLING CODE 4184-01-M